DEPARTMENT OF LABOR

Employment and Training Administration

[TA-W-59,183]

Gehl Company; West Bend, WI; Notice of Revised Determination on Reconsideration

On August 2, 2006, the Department issued an Affirmative Determination Regarding Application for Reconsideration for the workers and former workers of the subject firm. The notice was published in the Federal Register on August 11, 2006 (71 FR 46243-46244).

The previous investigation initiated on April 11, 2006, resulted in a negative determination issued on June 7, 2006, based on the finding that imports of agricultural implements did not contribute importantly to worker separations at the subject firm and no shift of production to a foreign source occurred. The denial notice was published in the Federal Register on July 14, 2006 (71 FR 40160).

To support the request for reconsideration, the company official supplied additional information. Upon further review of the initial investigation and contact with subject firm's company official, the Department conducted additional survey of subject firm's declining customers. The survey revealed that subject firm customers increased their reliance on import purchases of agricultural implements during the relevant period. The investigation also revealed that sales and production at the subject firm declined during the relevant time period.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Gehl Company, West Bend, Wisconsin, contributed importantly to the declines in sales or production and to the total or partial separation of workers at the subject firm. In accordance with the provisions of the Act, I make the following certification:

All workers of Gehl Company, West Bend, Wisconsin, who became totally or partially separated from employment on or after April 10, 2005 through two years from the date of this certification, are eligible to apply for adjustment assistance under section 223 of the Trade Act of 1974, and are eligible to apply for alternative trade adjustment assistance under section 246 of the Trade Act of 1974.

Signed in Washington, DC, this 29th day of September 2006.
Elliott S. Kushner,
Certifying Officer, Division of Trade Adjustment Assistance.

[FR Doc. E6-17104 Filed 10-13-06; 8:45 am]

BILLING CODE 4510-30-P